FEDERAL COMMUNICATIONS COMMISSION

47 CFR Part 73

[DA 02-1876; MM Docket No. 01-198, RM-10213; MM Docket No. 01-200, RM-10215; MM Docket No. 01-202, RM-10217; MM Docket No 01-203, RM-10218; MM Docket No. 01-204; RM-10219; MM Docket No. 01-236, RM-10242; MM Docket No. 01-237, RM-10243; MM Docket No. 01-238, RM-10244; MM Docket No. 01-239, RM-10245; MM Docket No. 01-240, RM-10246; MM Docket No. 01-270, RM-10277; MM Docket No. 01-272, RM-10279; and MM Docket No. 01-274, RM-10286]

Radio Broadcasting Services; Arnett, OK; Bruni, TX; Dilley, TX; Goree, TX; Hebbronville, TX; Junction, TX; Leakey, TX; Matador, TX; Richland Springs, TX; Rison, AR; Sayre, OK; Sweetwater, TX; and Turkey, TX;

AGENCY: Federal Communications Commission.

ACTION: Final rule.

SUMMARY: This document grants 13 proposals that allot new channels to Arnett, OK; Bruni, TX; Dilley, TX; Goree, TX; Hebbronville, TX; Junction, TX; Leakey, TX; Matador, TX; Richland Springs, TX, Rison, AR; Sayre, OK; Sweetwater, TX; and Turkey, TX. The Commission, at the request of Katherine Pyeatt, allots Channel 277C3 at Junction, Texas, as the community's second local FM transmission service. See 16 FCC Rcd 15801 (2001). Channel 277C3 can be allotted at Junction in compliance with the Commission's minimum distance separation requirements with a site restriction of 12.3 kilometers (7.6 miles) south to avoid short-spacings to the licensed sites of Station KKCN(FM), Channel 276C1, Ballinger, Texas, and Station KEEP(FM), Channel 276A, Bandera, Texas. The coordinates for Channel 277C3 at Junction are 30-22-51 North Latitude and 99-47-59 West Longitude. Although concurrence has been requested for Channel 277C3 at Junction, notification has not been received. If a construction permit is granted prior to the receipt of formal concurrence in the allotment by the Mexican government, the construction permit will include the following condition: “Operation with the facilities specified for Junction herein is subject to modification, suspension or, termination without right to hearing, if found by the Commission to be necessary in order to conform to the 1992 USA-Mexico FM Broadcast Agreement.” See Supplementary Information, infra.

DATES: Effective September 16, 2002. The window period for filing applications for these allotments will not be opened at this time. Instead, the issue of opening these allotments for auction will be addressed by the Commission in a subsequent order.

FOR FURTHER INFORMATION CONTACT: Sharon P. McDonald, Media Bureau, (202) 418-2180.

SUPPLEMENTARY INFORMATION: This is a synopsis of the Commission's Report and Order, MM Docket No. 01-198, MM Docket No. 01-200, MM Docket No. 01-202, MM Docket No. 01-203; MM Docket No. 01-204, MM Docket No. 01-236, MM Docket No. 01-237, MM Docket No. 01-238, and MM Docket No. 01-239, MM Docket No. 01-240, MM Docket No. 01-270, MM Docket No. 01-272, and MM Docket No. 01-274, adopted July 24, 2002, and released August 2, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554.

The Commission, at the request of Jeraldine Anderson, allots Channel 264A at Dilley, Texas, as the community's second local FM transmission service. See 16 FCC Rcd 15801 (2001). Channel 264A can be allotted at Dilley in compliance with the Commission's minimum distance separation requirements a city reference coordinates. The coordinates for Channel 264A at Dilley are 28-40-02 North Latitude and 99-10-13 West Longitude. Although concurrence has been requested for Channel 264A at Dilley, notification has not been received. If a construction permit is granted prior to the receipt of formal concurrence in the allotment by the Mexican government, the construction permit will include the following condition: “Operation with the facilities specified for Dilley herein is subject to modification, suspension or, termination without right to hearing, if found by the Commission to be necessary in order to conform to the 1992 USA-Mexico FM Broadcast Agreement.”

The Commission, at the request of Jeraldine Anderson, allots Channel 275A at Goree, Texas, as the community's first local aural transmission service. See 16 FCC Rcd 15801 (2001). Channel 275A can be allotted at Goree in compliance with the Commission's minimum distance separation requirements with a site restriction of 4.3 kilometers (2.7 miles) northeast to avoid a short-spacing to the licensed and construction permit sites of Station KHXS(FM), Channel 274C1, Merkel, Texas. The coordinates for Channel 275A at Goree are 33-30-00 North Latitude and 99-30-00 West Longitude.

The Commission, at the request of Jeraldine Anderson, allots Channel 299A at Leakey, Texas, as the community's third local FM transmission service. See 16 FCC Rcd 15801 (2001). Channel 299A can be allotted at Leakey in compliance with the Commission's minimum distance separation requirements with a site restriction of 13.3 kilometers (8.3 miles) west to avoid short-spacings to the licensed sites of Station KXTN-FM, Channel 298C, San Antonio, Texas, and to the licensed site of Station XHPC-FM, Channel 300B, Piedras, Mexico. The coordinates for Channel 299A at Leakey are 29-41-58 North Latitude and 99-53-41 West Longitude. Although concurrence has been requested for Channel 299A at Leakey, notification has not been received. If a construction permit is granted prior to the receipt of formal concurrence in the allotment by the Mexican government, the construction permit will include the following condition: “Operation with the facilities specified for Leakey herein is subject to modification, suspension or, termination without right to hearing, if found by the Commission to be necessary in order to conform to the 1992 USA-Mexico FM Broadcast Agreement.”

The Commission, at the request of Jeraldine Anderson, allots Channel 221C3 at Sweetwater, Texas, as the community's second local FM transmission service. See 16 FCC Rcd 15801 (2001). Channel 221C3 can be allotted at Sweetwater in compliance with the Commission's minimum distance separation requirements at city reference coordinates. The coordinates for Channel 221C3 at Sweetwater are 32-28-15 North Latitude and 100-24-20 West Longitude. Although concurrence has been requested for Channel 221C3 at Sweetwater, notification has not been received. If a construction permit is granted prior to the receipt of formal concurrence in the allotment by the Mexican government, the construction permit will include the following condition: “Operation with the facilities specified for Sweetwater herein is subject to modification, suspension or, termination without right to hearing, if found by the Commission to be necessary in order to conform to the 1992 USA-Mexico FM Broadcast Agreement.”

The Commission, at the request of Katherine Pyeatt, allots Channel 285C2 at Arnett, Oklahoma, as the community's first local aural transmission service. See 16 FCC Rcd 16470 (2001). Channel 285C2 can be allotted at Arnett in compliance with the Commission's minimum distance separation requirements with a site restriction of 17.6 (11.1 miles) southwest to avoid a short-spacing to the vacant allotment site for Channel 283C1 at Mooreland, Oklahoma. The coordinates for Channel 285C2 at Arnett are 36-02-45 North Latitude and 99-56-22 West Longitude.

The Commission, at the request of Jeraldine Anderson, allots Channel 269C2 at Sayre, Oklahoma, as the community's first local aural transmission service. See 16 FCC Rcd 16470 (2001). Channel 269C2 can be allotted at Sayre in compliance with the Commission's minimum distance separation requirements at city reference coordinates. The coordinates for Channel 269C2 at Sayre are 35-17-28 North Latitude and 99-38-23 West Longitude.

The Commission, at the request of Jeraldine Anderson, allots Channel 254A at Hebbronville, Texas, as the community's second local FM transmission service. See 16 FCC Rcd 16470 (2001). Channel 254A can be allotted at Hebbronville in compliance with the Commission's minimum distance separation requirements with a site restriction of 10.6 kilometers (6.6 miles) west to avoid a short-spacing to the licensed site of Station KGBT-FM, Channel 253C, McAllen, Texas. The coordinates for Channel 254A at Hebrronvillle are 27-20-15 North Latitude and 98-46-45 West Longitude. Although concurrence has been requested for Channel 254A at Hebbronville, notification has not been received. If a construction permit is granted prior to the receipt of formal concurrence in the allotment by the Mexican government, the construction permit will include the following condition: “Operation with the facilities specified for Hebbronville herein is subject to modification, suspension or, termination without right to hearing, if found by the Commission to be necessary in order to conform to the 1992 USA-Mexico FM Broadcast Agreement.”

The Commission, at the request of Jeraldine Anderson, allots Channel 293A at Bruni, Texas, as the community's first local aural transmission service. See 16 FCC Rcd 16470 (2001). Channel 293A can be allotted at Bruni in compliance with the Commission's minimum distance separation requirements with a site restriction of 6.8 kilometers (4.2 miles) north to avoid a short-spacing to the licensed site of Station KPSO-FM, Channel 292A, Falfurrias, Texas, the construction permit site of Station KTKY(FM), Channel 293C2, Taft, Texas, and the allotment site for Channel 294A at El Lobo, Mexico. The coordinates for Channel 293A at Bruni are 27-29-12 North Latitude and 98-51-00 West Longitude. Although concurrence has been requested for Channel 293A at Bruni, notification has not been received. If a construction permit is granted prior to the receipt of formal concurrence in the allotment by the Mexican government, the construction permit will include the following condition: “Operation with the facilities specified for Bruni herein is subject to modification, suspension or, termination without right to hearing, if found by the Commission to be necessary in order to conform to the 1992 USA-Mexico FM Broadcast Agreement.”

The Commission, at the request of Charles Crawford, allots Channel 255A at Rison, Arkansas, as the community's first local aural transmission service. See 16 FCC Rcd 16470 (2001). Channel 255A can be allotted at Rison in compliance with the Commission's minimum distance separation requirements with a site restriction of 2.2 kilometers (1.4 miles) southwest to avoid a short-spacing to the licensed site of Station KZYP(FM), Channel 257A, Pine Bluff, Arkansas. The coordinates for Channel 255A at Rison are 33-56-30 North Latitude and 92-12-14 West Longitude.

The Commission, at the request of Katherine Pyeatt, allots Channel 221C2 at Matador, Texas, as the community's first local aural transmission service. See 16 FCC Rcd 17210 (2001). Channel 221C2 at can be allotted at Matador in compliance with the Commission's minimum distance separation requirements with a site restriction of .3 kilometers (12.6 miles) east to avoid a short-spacing to the application site for Channel 220C1 at Morton, Texas. The coordinates for Channel 221C2 at Matador are 34-03-56 North Latitude and 100-36-43 West Longitude.

The Commission, at the request of Katherine Pyeatt, allots Channel 244C2 at Turkey, Texas, as the community's first local aural transmission service. See 16 FCC Rcd 17210 (2001). Channel 244C2 can be allotted at Turkey in compliance with the Commission's minimum distance separation requirements with a site restriction of 27.1 kilometers (16.9 miles) southeast to avoid a short-spacing to the licensed site of Station KMML-FM, Channel 245C1, Amarillo, Texas. The coordinates for Channel 244C2 at Turkey are 34-10-06 North Latitude and 100-46-46 West Longitude.

The Commission, at the request of Linda Crawford, allots Channel 252A at Richland Springs, Texas, as the community's second local FM transmission service. See 16 FCC Rcd 17210 (2001). Channel 252A can be allotted at Richland Springs in compliance with the Commission's minimum distance separation requirements at city reference coordinates. The coordinates for Channel 252A at Richland Springs are 31-16-10 North Latitude and 98-56-41 West Longitude. Although concurrence has been requested for Channel 252A at Richland Springs, notification has not been received. If a construction permit is granted prior to the receipt of formal concurrence in the allotment by the Mexican government, the construction permit will include the following condition: “Operation with the facilities specified for Richland Springs herein is subject to modification, suspension or, termination without right to hearing, if found by the Commission to be necessary in order to conform to the 1992 USA-Mexico FM Broadcast Agreement.”

List of Subjects in 47 CFR Part 73

Radio, Radio broadcasting.

PART 73—RADIO BROADCAST SERVICES

1. The authority citation for Part 73 continues to read as follows:

Authority: 47 U.S.C. 154, 303, 334 and 336.

§ 73.202 [Amended]

2. Section 73.202(b), the Table of FM Allotments under Arkansas, is amended by adding Rison, Channel 255A.

3. Section 73.202(b), the Table of FM Allotments under Oklahoma, is amended by adding Arnett, Channel 285C2; and by adding Sayre, Channel 269C2.

4. Section 73.202(b), the Table of FM Allotments under Texas, is amended by adding Bruni, Channel 293A; by adding Channel 264A at Dilley; by adding Goree, Channel 275A; by adding Channel 254A at Hebbronville; by adding Channel 277C3 at Junction; by adding Channel 299A at Leakey; by adding Matador, Channel 221C2; by adding Richland Springs, Channel 252A; by adding Channel 221C3 at Sweetwater; and by adding Turkey, Channel 244C2.

Federal Communications Commission.
John A. Karousos,
Assistant Chief, Audio Division, Media Bureau.

[FR Doc. 02-20924 Filed 8-16-02; 8:45 am]

BILLING CODE 6712-01-P